ELECTION ASSISTANCE COMMISSION

Sunshine Act Notice

AGENCY: United States Election Assistance Commission.

ACTION: Notice of public hearing agenda.

Date & Time: Tuesday, April 26, 2005, 12:30 p.m.-4:30 p.m.

Place: Massachusetts Institute of Technology (MIT), Bartos Theater, 20 Ames Street (lower level), Cambridge, MA 02142-1308. (Massachusetts Bay Transit Station Stop: Kendall Square.)

Agenda: The Commission will conduct a public hearing to present proposed voluntary guidance to the states on implementing statewide voter registration databases and to solicit comments on that guidance from members of the election community and public.

The Commission will hear presentations by a panel of persons involved with the development of voter registration databases as well as a panel of persons who will use guidance on the databases.

EAC will provide a one-hour public comment period. Members of the public who wish to speak should contact EAC via e-mail at testimony@eac.gov, or via mail addressed to the U.S. Suite 1100, Washington, DC 20005, or by fax at 202/566-3127. Comments will be strictly limited to 3 minutes per person or organization to assure that all constituent or stakeholder groups are represented. All speakers will be contacted prior to the hearing.

EAC also encourages members of the public to submit written testimony via e-mail, mail or fax. All public comments will be taken in writing via e-mail at testimony@eac.gov, or via mail addressed to the U.S. Election Assistance Commission 1225 New York Ave, NW., Suite 1100, Washington, DC 20005, or by fax at 202/566-3127.

CONTACT FOR FURTHER INFORMATION: Bryan Whitener, Telephone: (202) 566-3100.

Ray Martinez III,
Commissioner, U.S. Election Assistance Commission.

[FR Doc. 05-7065 Filed 4-5-05; 1:32 pm]

BILLING CODE 6820-YN-M